DEPARTMENT OF LABOR

Employment and Training Administration

[TA-W-70,496]

Tektronix, Inc.: Information Technology Division, Data Center Operations Group, Including On-Site Leased Workers From Adecco Employment Services; Beaverton, OR; Amended Certification Regarding Eligibility To Apply for Worker Adjustment Assistance and Alternative Trade Adjustment Assistance

In accordance with Section 223 of the Trade Act of 1974, as amended (“Act”), 19 U.S.C. 2273, and Section 246 of the Trade Act of 1974 (26 U.S.C. 2813), as amended, the Department of Labor issued a Certification of Eligibility to Apply for Worker Adjustment Assistance on June 26, 2009, applicable to workers of Tektronix, Inc. This notice was published in the Federal Register on August 19, 2009 (74 FR 41934-41936).

At the request of the State Agency, the Department reviewed the certification for workers of the subject firm. The workers provided telephone call center support services for the computer systems of Tektronix, Inc.

The company reports that on-site leased workers from Adecco Employment Services were employed on-site at the Beaverton, Oregon location of Tektronix, Inc. The Department has determined that these workers were sufficiently under the control of the subject firm to be considered leased workers.

Based on these findings, the Department is amending this certification to include workers leased from Adecco Employment Services working on-site at the Beaverton, Oregon location of Tektronix, Inc.

The amended notice applicable to TA-W-71,202 is hereby issued as follows:

All workers of Tektronix, Inc., Information Technology Division, Data Center Operations Group, including on-site leased workers from Adecco Employment Services, Beaverton, Oregon, who became totally or partially separated from employment on or after May 21, 2008, through June 26, 2011, and all workers in the group threatened with total or partial separation from employment on date of certification through two years from the date of certification, are eligible to apply for adjustment assistance under Chapter 2 of Title II of the Trade Act of 1974, as amended.

Signed in Washington, DC, this 15th day of October, 2009.
Richard Church,
Certifying Officer, Division of Trade Adjustment Assistance.

[FR Doc. E9-25787 Filed 10-26-09; 8:45 am]

BILLING CODE 4510-FN-P